DEPARTMENT OF TRANSPORTATION

Research and Innovative Technology Administration

[Docket No.: RITA-2006-24566]

Notice of Request for Approval To Collect New Information: Confidential Close Call Reporting System

AGENCY: Bureau of Transportation Statistics (BTS), Research and Innovative Technology Administration (RITA), DOT.

ACTION: Notice and request for comments.

SUMMARY: In accordance with the requirements of section3506(c)(2)(A) of the Paperwork Reduction Act of 1995, this notice announces that the Bureau of Transportation Statistics (BTS) intends to request the Office of Management and Budget (OMB) to approve a new information collection effort in railroad yards. This data collection effort is in support of a five-year research study aiming at improving rail safety by analyzing information on close calls and other unsafe occurrences in the rail industry. The study is conducted by the Office of Human Factors in the Federal Railroad Administration and is designed to identify safety issues and propose corrective actions based on voluntary reports of close calls submitted to BTS. This collection is necessary because data on close calls are not normally reported to the railroad carriers or the Federal Railroad Administration.

DATES: Comments must be received by June 26, 2006.

ADDRESSES: You can mail or hand-deliver comments to the U.S. Department of Transportation (DOT), Dockets Management System (DMS). You may submit your comments by mail or in person to the Docket Clerk, Docket No. RITA-2006-24566, U.S. Department of Transportation, 400 Seventh Street, SW., Room PL-401, Washington, DC 20590-0001. Comments should identify the docket number; paper comments should be submitted in duplicate. The DMS is open for examination and copying, at the above address, from 9 a.m. to 5 p.m., Monday through Friday, except Federal holidays. If you wish to receive confirmation of receipt of your written comments, please include a self-addressed, stamped postcard with the following statement: “Comments on Docket RITA-2006-24566.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments on-line at the DMS Web site at http://dms.dot.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19477-78) or you may review the Privacy Act Statement at http://dms.dot.gov.

FOR FURTHER INFORMATION CONTACT: Demetra V. Collia, RTS 31, Room 3430, Bureau of Transportation Statistics, Research and Innovative Technology Administration, 400 Seventh Street, SW., Washington, DC 20590; (202) 366-1610; Fax No. (202) 493-0568; e-mail: demetra.collia@dot.gov. Office hours are from 8:30 a.m. to 5 p.m., Monday through Friday, except Federal holidays.

Data Confidentiality Provisions: The confidentiality of Close Calls data is protected under the BTS confidentiality statute (49 U.S.C. 111(k) and the Confidential Information Protection and Statistical Efficiency Act (CIPSEA) of 2002 (Pub. L. 107-347, Title V). In accordance with these confidentiality statutes, only statistical and non-identifying data will be made publicly available through reports. Further, BTS will not release to FRA or any other public or private entity any information that might reveal the identity of individuals or organizations mentioned in close call reports.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Confidential Close Call Reporting System.

OMB Control Number: 2139-NEW.

Type of Review: Approval of data collection.

Respondents: Employees of selected (pilot) railroad sites.

Number of Respondents: 350 (per annum).

Estimated Time per Response: 0.50 hours.

Frequency: Intermittent for 5 years. (Reports are submitted when there is a qualifying event, i.e., a close call occurs within a pilot site. The frequency of such event is estimated to be approximately one per day.)

Total Annual Burden: 175.00 hours.

II. Background

Collecting data on the nation's transportation system is an important component of BTS's responsibility to the transportation community and is authorized in BTS statutory authority (49 U.S.C. 111(c)(1) and (2) and 49 U.S.C. 111(c)(5)(j)). BTS and FRA share a common interest in promoting rail safety based on better data. To that end, FRA's Office of Research and Development is sponsoring the Confidential Close Call Reporting System (C³RS) Demonstration Project to investigate the effectiveness of such system in improving rail safety.

A close call represents a situation in which an ongoing sequence of events was stopped from developing further, preventing the occurrence of potentially serious safety-related consequences. This might include the following: (1) Events that happen frequently, but have low safety consequences; (2) events that happen infrequently but have the potential for high consequences (e.g., a train in dark territory proceeds beyond its authority); (3) events that are below the FRA reporting threshold (e.g., an event that causes a minor injury); and (4) events that are reportable to FRA but have the potential for a far greater accident than the one reported (e.g., a slow speed collision with minor damage to the equipment and no injuries.)

Employees involved in a close call will be asked to fill out a questionnaire which will be made available on the Web and at their work site and mail it to BTS. The close call questionnaire will request the respondent to provide information such as: (1) Name and contact information; (2) time and location of the incident; (3) a short description of the event; (4) contributing factors to the close call; and (5) any other information that might be useful in determining a root cause of such event.

BTS will collect close call reports submitted by railroad employees, develop an analytical database containing the reported data and other pertinent information, and protect the confidentiality of these data through its own statute (49 U.S.C. 111(i)) and the Confidential Information Protection and Statistical Efficiency Act of 2002 (CIPSEA). The database will be a valuable tool to railroad carriers and the FRA in their effort to identify safety issues and provide corrective measures before an accident occurs.

Voluntary reporting of close calls to a confidential system can provide a tool to identify and correct weaknesses in railroad safety systems before an accident actually occurs. The C³RS demonstration project will foster a voluntary, cooperative, non-punitive environment to communicate safety concerns. Through the analysis of close calls the FRA and the railroad community will receive information about factors that may contribute to unsafe events and the error recovery mechanisms that prevented an adverse consequence from occurring. Such information can be used to develop new training programs, identify root causes of potentially adverse events, assess risk and allocate resources to address those risks more efficiently. The database will also provide other users such as rail safety researchers with valuable information regarding precursors to safety risks and contribute to research and development of intervention programs aimed at preventing accidents and fatalities.

III. Request for Comments

BTS requests comments on any aspects of these information collections, including: (1) The accuracy of the estimated burden; (2) ways to enhance the quality, usefulness, and clarity of the collected information; and (3) ways to minimize the collection burden without reducing the quality of the information collected, including additional use of automated collection techniques or other forms of information technology.

Issued in Washington, DC on April 20, 2006.
William Bannister,
Acting Deputy Director, Bureau of Transportation Statistics, Research and Innovative Technology Administration.

[FR Doc. E6-6348 Filed 4-26-06; 8:45 am]

BILLING CODE 4910-HY-P